DEPARTMENT OF ENERGY

Federal Energy Regulatory Commission

[Docket Nos. PF15-18-000 and PF15-19-000]

Port Arthur LNG, LLC and Port Arthur Pipeline, LLC; Notice of Intent To Prepare an Environmental Impact Statement for the Planned Port Arthur Liquefaction Project and Port Arthur Pipeline Project, Request for Comments on Environmental Issues, and Notice of Public Scoping Meetings

The staff of the Federal Energy Regulatory Commission (FERC or Commission) will prepare an environmental impact statement (EIS) that will discuss the environmental impacts of the Port Arthur Liquefaction Project and Port Arthur Pipeline Project (projects) involving construction and operation of facilities by Port Arthur LNG, LLC (PALNG) and Port Arthur Pipeline, LLC (PAPL), respectively, in Jefferson and Orange Counties, Texas, and Cameron Parish, Louisiana. The Commission will use this EIS in its decision-making process to determine whether the projects are in the public interest and public convenience and necessity.

This notice announces the opening of the scoping process the Commission will use to gather input from the public and interested agencies on the projects. You can make a difference by providing us with your specific comments or concerns about the projects. Your comments should focus on the potential environmental effects, reasonable alternatives, and measures to avoid or lessen environmental impacts. Your input will help the Commission staff determine what issues they need to evaluate in the EIS. To ensure that your comments are timely and properly recorded, please send your comments so that the Commission receives them in Washington, DC on or before July 24, 2015.

If you sent comments on these projects to the Commission before the opening of these dockets on March 31, 2015, you will need to file those comments in Docket Nos. PF15-18-000 and PF15-19-000 to ensure they are considered as part of this proceeding.

This notice is being sent to the Commission's current environmental mailing list for these projects. State and local government representatives should notify their constituents of these planned projects and encourage them to comment on their areas of concern.

If you are a landowner receiving this notice, a pipeline company representative may contact you about the acquisition of an easement to construct, operate, and maintain the planned facilities. The company would seek to negotiate a mutually acceptable agreement. However, if the Commission approves the Port Arthur Pipeline Project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the projects' docket numbers (PF15-18-000 for the Port Arthur Liquefaction Project; PF15-19-000 for the Port Arthur Pipeline Project) with your submission: Kimberly D. Bose, Secretary, Federal Energy Regulatory Commission, 888 First Street NE., Room 1A, Washington, DC 20426.

(4) In lieu of sending written or electronic comments, the Commission invites you to attend one of the public scoping meetings its staff will conduct in the projects' area, scheduled as follows.

FERC Public Scoping Meetings—Port Arthur Liquefaction Project and Port Arthur Pipeline Project

Holiday Inn Port Arthur-Park Central, 2929 Jimmy Johnson Blvd., Port Arthur, Texas 77642

Monday, July 13, 2015

Midday Meeting—11:00 a.m. to 2:00 p.m.

Evening Meeting—5:00 p.m. to 8:00 p.m.

You may attend at any time during either session, as the primary goal of a scoping meeting is for us to have your environmental concerns documented. There will not be a formal presentation, but you will have the opportunity to learn, in an open-house setting, about the FERC Process in addition to presenting your comments. Representatives of PAPL and PALNG will also be present to answer questions about their projects.

A court reporter will be available to take verbal comments. Those comments will be transcribed and then placed into the dockets for the projects and be available for public viewing on FERC's eLibrary system in the respective dockets. We believe it is important to note that verbal comments hold the same weight as written or electronically submitted comments. If a significant number of people are interested in providing verbal comments, a time limit of 3 to 5 minutes may be implemented for each commenter to ensure all those wishing to comment have the opportunity to do so within the designated meeting times. Time limits will be strictly enforced if they are implemented.

Please note this is not your only public input opportunity; please refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

PALNG, an affiliate of Sempra LNG, and PAPL, a subsidiary of Sempra U.S. Gas and Power, LLC, are planning to construct and operate interrelated liquefied natural gas (LNG) terminal and natural gas infrastructure projects. The Port Arthur Liquefaction Project would involve the construction of an LNG export terminal and a marine facility to accommodate LNG vessels along the Sabine-Neches ship channel in Jefferson County, Texas, with a total production capacity of up to 1.38 billion cubic feet per day (bcf/d) of natural gas. The Port Arthur Pipeline Project would involve the construction of about 35 miles of new pipeline and would provide approximately 1.6 bcf/d of feed natural gas supply to the LNG facilities. The projects would also require the relocation of a portion of State Highway 87 and up to five existing third-party pipelines to accommodate a marine terminal berth for ship docking and loading.

The Port Arthur Liquefaction Project and Port Arthur Pipeline Project would consist of the following facilities:

• An export liquefaction terminal that includes:

○ Two liquefaction trains;

○ a natural gas liquids (NGL) and refrigerant storage area;

○ a marine facility, including two LNG berths, each with three liquid loading arms, one vapor loading arm, and one spare hybrid loading arm;

○ an NGL and refrigerant truck loading/unloading facility;

○ a construction dock; and

○ three full containment LNG storage tanks;

• an approximately 28-mile-long, 42-inch-diameter pipeline extending northerly from the LNG facility to Orange County, Texas;

• an approximately 7-mile-long, 42-inch-diameter pipeline extending southerly to Cameron Parish, Louisiana;

• two compressor stations;

• one delivery point and six receipt point meter stations;

• mainline and block valves;

• pig launchers and receiver facilities; ² and

² A “pig” is a tool that the pipeline company inserts into and pushes through the pipeline for cleaning the pipeline, conducting internal inspections, or other purposes.

• other pipeline-related facilities (e.g., access roads, contractor and pipe yards).

The general location of the project facilities is shown in appendix 2.

Land Requirements for Construction

Construction of the planned Port Arthur Liquefaction Project would occur on a portion of a 2,900-acre property owned by an affiliate of PALNG. The LNG ship berth would be approximately 1,350 feet in width and 1,900 feet in length and dredged to a nominal depth of minus 40 feet mean lower low water. Construction of the marine facilities would require dredging of approximately 4.9 million cubic yards (yd³) of material and construction of the turning basin would require the dredging of approximately 1.4 million yd³, for a total of 6.3 million yd³.

Construction of the planned Port Arthur Pipeline Project would disturb about 580 acres of land for the pipeline and aboveground facilities. Following construction, PAPL would maintain about 217 acres for permanent operation of the pipeline project; the remaining acreage would be restored and revert to former uses.

The EIS Process

The National Environmental Policy Act (NEPA) requires the Commission to take into account the environmental impacts that could result from an action whenever it considers the authorization of LNG facilities under section 3 of the Natural Gas Act and the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned projects under these general headings:

• Geology and soils;

• land use;

• water resources, fisheries, and wetlands;

• cultural resources;

• vegetation and wildlife;

• air quality and noise;

• endangered and threatened species;

• socioeconomics;

• public safety; and

• cumulative impacts.

We will also evaluate possible alternatives to the planned projects or portions of the projects, and make recommendations on how to lessen or avoid impacts on the various resource areas.

Although no formal applications have been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to the environmental issues related to these projects to formally cooperate with us in the preparation of the EIS.⁴ Agencies that would like to request cooperating agency status should follow the instructions for filing comments provided under the Public Participation section of this notice. Currently, the U.S. Department of Energy and U.S. Department of Transportation have expressed their intention to participate as a cooperating agency in the preparation of the EIS to satisfy their NEPA responsibilities related to these projects.

⁴ The Council on Environmental Quality regulations addressing cooperating agency responsibilities are at Title 40, Code of Federal Regulations, part 1501.6.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the projects' potential effects on historic properties.⁵ We will define the project-specific Area of Potential Effects (APE) in consultation with the SHPOs as the projects develop. On natural gas facility projects, the APE at a minimum encompasses all areas subject to ground disturbance (examples include construction right-of-way, contractor/pipe storage yards, compressor stations, and access roads). Our EIS for these projects will document our findings on the impacts on historic properties and summarize the status of consultations under section 106.

⁵ The Advisory Council on Historic Preservation regulations are at Title 36, Code of Federal Regulations, part 800. Those regulations define historic properties as any prehistoric or historic district, site, building, structure, or object included in or eligible for inclusion in the National Register of Historic Places.

Currently Identified Environmental Issues

We have already identified two specific issues that we think deserve attention based on a preliminary review of the planned facilities and the environmental information provided by PAPL and PALNG. This preliminary list of issues may change based on your comments and our analysis.

• Impacts on wetlands; and

• Impacts on Texas Parks and Wildlife Department land.

Environmental Mailing List

The environmental mailing list includes federal, state, and local government representatives and agencies; elected officials; environmental and public interest groups; Native American tribes; other interested parties; and local libraries and newspapers. This list also includes all affected landowners (as defined in the Commission's regulations) who are potential right-of-way grantors, whose property may be used temporarily for project purposes, or who own homes within certain distances of aboveground facilities, and anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (appendix 3).

Becoming an Intervenor

Once PAPL and PALNG file their applications with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives formal applications for the projects.

Additional Information

Additional information about the projects is available from the Commission's Office of External Affairs, at (866) 208-FERC, or on the FERC Web site (www.ferc.gov) using the eLibrary link. Click on the eLibrary link, click on “General Search” and enter the docket number, excluding the last three digits in the Docket Number field (i.e., PF15-18 for the Port Arthur Liquefaction Project; PF15-19 for the Port Arthur Pipeline Project). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 24, 2015.
Kimberly D. Bose,
Secretary.

[FR Doc. 2015-16311 Filed 7-1-15; 8:45 am]

BILLING CODE 6717-01-P